DEPARTMENT OF THE INTERIOR

Fish and Wildlife Service

Construction of a Commercial Development in Lake County, FL

AGENCY: Fish and Wildlife Service, Interior.

ACTION: Notice: receipt of application for an incidental take permit; request for comments.

SUMMARY: We, the Fish and Wildlife Service (Service), announce the availability of an Incidental Take Permit (ITP) Application and Habitat Conservation Plan (HCP). Hancock Commons, LLC (applicant) requests an ITP for a duration of 5 years under section 10(a)(1)(B) of the Endangered Species Act of 1973, as amended (Act). The applicant anticipates taking about 3.7 acres of sand skink (Neoseps reynoldsi)—occupied habitat incidental to constructing a shopping center and associated amenities in Lake County, Florida (Project). The applicant's HCP describes the mitigation and minimization measures the applicant proposes to address the effects of the Project to the sand skink.

DATES: We must receive any written comments on the ITP application and HCP on or before December 18, 2006.

ADDRESSES: If you wish to review the application and HCP, you may obtain a copy by writing the Field Supervisor at our Jacksonville Field Office, 6620 Southpoint Drive South, Suite 310, Jacksonville, FL, 32216, or by making an appointment to visit during normal business hours. If you wish to comment, you may mail or hand deliver comments to the Jacksonville Field Office, or you may email comments to paula_sisson@fws.gov. For more information on reviewing documents and public comments and submitting comments, see SUPPLEMENTARY INFORMATION.

FOR FURTHER INFORMATION CONTACT: Paula Sisson, Fish and Wildlife Biologist, Jacksonville Field Office (see ADDRESSES), telephone: 904/232-2580, ext. 126.

SUPPLEMENTARY INFORMATION:

Public Review and Comment

Please reference permit number TE132462-0 in all requests or comments. Please include your name and return address in your email message. If you do not receive a confirmation from us that we have received your email message, contact us directly at the telephone number listed under FOR FURTHER INFORMATION CONTACT. Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Background: Due to the reduction in quality and acreage and the rapid development of xeric (bare, scrub-like areas with sandy soils, open canopies) upland communities, the sand skink is reportedly declining throughout most of its range. By some estimates, as much as 90 percent of the scrub ecosystem has already been lost to residential development and conversion to agriculture, primarily citrus groves.

Applicant's Proposal: The applicant is requesting take of 3.7 acres of occupied sand skink habitat incidental to the construction of a shopping center (Hancock Commons) on 13.96 acres in Lake County, Florida. Hancock Commons is located south of State Road 50 and East of Hancock Road, in Section 27, Township 22 South, Range 26 East, near Clermont.

The proposed Hancock Commons development will consist of approximately 38,100 square feet of shopping center space that will support a bank, a fast-food restaurant, a sit-down restaurant, and retail sale. Currently, the property consists primarily of xeric oak forest with scattered open patches of sand and a disturbed area along the western boundary.

The Applicant proposes to mitigate for 3.7 acres of impacts by purchasing a ±43-acre parcel in Polk County, FL, within the boundaries of the Lake Wales Ridge. This property is being referred to as the Eddinger Mitigation Property and is located south of State Road 60, west of Walk-in-the-Water Road, in Section 6, Township 31 South, Range 29 East. This property consists of three tax parcels, the northern two of which are being utilized to mitigate for the impacts associated with the Hancock Commons development.

The Service has determined that the Applicant's proposal, including the proposed mitigation and minimization measures, will have a minor or negligible effect on the species covered in the HCP. Therefore, the ITP is a “low-effect” project and qualifies for a categorical exclusion under the National Environmental Policy Act (NEPA), as provided by the Department of the Interior Manual (516 DM 2 Appendix 1 and 516 DM 6 Appendix 1). This preliminary information may be revised based on our review of public comments that we receive in response to this notice. Low-effect HCPs are those involving (1) minor or negligible effects on federally listed or candidate species and their habitats, and (2) minor or negligible effects on other environmental values or resources.

We will evaluate the HCP and comments submitted thereon to determine whether the application meets the requirements of section 10(a) of the Act (16 U.S.C. 1531 et seq.). If we determine that the application meets those requirements, we will issue the ITP for incidental take of the sand skink. We will also evaluate whether issuance of the section 10(a)(1)(B) ITP complies with section 7 of the Act by conducting an intra-Service section 7 consultation. We will use the results of this consultation, in combination with the above findings, in the final analysis to determine whether or not to issue the ITP.

Authority: We provide this notice under Section 10 of the Endangered Species Act and NEPA regulations (40 CFR 1506.6).

Dated: November 6, 2006.
David L. Hankla,
Field Supervisor, Jacksonville Field Office.

[FR Doc. E6-19442 Filed 11-16-06; 8:45 am]

BILLING CODE 4310-55-P